DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than November 19, 2018.

Interested persons are invited to submit written comments regarding the subject matter of the investigations to the Director, Office of Trade Adjustment Assistance, at the address shown below, not later than November 19, 2018.

The petitions filed in this case are available for inspection at the Office of the Director, Office of Trade Adjustment Assistance, Employment and Training Administration, U.S. Department of Labor, Room N-5428, 200 Constitution Avenue NW, Washington, DC 20210.

Signed at Washington, DC, on September 18, 2018.
Hope D. Kinglock,
Certifying Officer, Office of Trade Adjustment Assistance.

Appendix

69 TAA Petitions Instituted Between 8/20/18 and 9/14/18
TA-W | Subject firm (petitioners) | Location | Date of institution | Date of petition
94065 | Barnett Outdoors (State/One-Stop) | Tarpon Springs, FL | 08/20/18 | 08/17/18
94066 | IBM (State/One-Stop) | Atlanta, CT | 08/20/18 | 08/17/18
94067 | Pacific Coast Title Company (Workers) | Orange, CA | 08/20/18 | 08/17/18
94068 | DIRECTV Latin America, LLC (State/One-Stop) | El Segundo, CA | 08/21/18 | 08/20/18
94069 | Oregon Canadian Forest Products (State/One-Stop) | North Plains, OR | 08/21/18 | 08/20/18
94070 | Learjet, Inc. (State/One-Stop) | Wichita, KS | 08/22/18 | 08/21/18
94071 | Prestolite Electric Incorporated (Company) | Arcade, NY | 08/22/18 | 08/21/18
94072 | R & M Sea Level Marine LLC (State/One-Stop) | Hood River, OR | 08/22/18 | 08/21/18
94073 | REG (State/One-Stop) | Ralston, IA | 08/22/18 | 08/21/18
94074 | REG (State/One-Stop) | Mason City, IA | 08/22/18 | 08/21/18
94075 | REG (State/One-Stop) | Newton, IA | 08/22/18 | 08/21/18
94076 | AG Processing Inc. a Cooperative (State/One-Stop) | Algona, IA | 08/23/18 | 08/22/18
94077 | AG Processing Inc. a Cooperative (State/One-Stop) | Sergeant Bluff, IA | 08/23/18 | 08/22/18
94078 | Cargill (State/One-Stop) | Iowa Falls, IA | 08/23/18 | 08/22/18
94079 | ECi Software Solutions, Inc. (State/One-Stop) | Bloomington, MN | 08/23/18 | 08/22/18
94080 | Ernst & Young LLP (State/One-Stop) | Secaucus, NJ | 08/23/18 | 08/22/18
94081 | Finastra USA, Corporation (State/One-Stop) | Burlington, MA | 08/23/18 | 08/22/18
94082 | Health Care Service Corporation (HCSC) (State/One-Stop) | Chicago, IL | 08/23/18 | 08/22/18
94083 | Hologic, Inc. (State/One-Stop) | Hicksville, NY | 08/23/18 | 08/22/18
94084 | Informa (Company) | Westborough, MA | 08/23/18 | 08/22/18
94085 | JW Aluminum Co. (State/One-Stop) | Russellville, AR | 08/23/18 | 08/22/18
94086 | Micron Technology (State/One-Stop) | Boise, ID | 08/23/18 | 08/22/18
94087 | Royal Caribbean Customer Contact Center (Workers) | Springfield, OR | 08/23/18 | 08/22/18
94088 | W2Fuel Headquarters (State/One-Stop) | Crawfordsville, IA | 08/23/18 | 08/22/18
94089 | Western Dubuque Biodiesel (State/One-Stop) | Farley, IA | 08/23/18 | 08/22/18
94090 | Granges Americas, Inc. (State/One-Stop) | Newport, AR | 08/24/18 | 08/24/18
94091 | Western Iowa Energy, LLC (State/One-Stop) | Wall Lake, IA | 08/24/18 | 08/23/18
94092 | IBM (Aerotek Inc.) (State/One-Stop) | Hillsboro, OR | 08/27/18 | 08/24/18
94093 | Kaiam Corporation (State/One-Stop) | Newark, CA | 08/27/18 | 08/24/18
94094 | La Quinta Inns & Suites (State/One-Stop) | Irving, TX | 08/27/18 | 08/24/18
94095 | CDK Global, LLC. (State/One-Stop) | Hoffman Estates, IL | 08/28/18 | 08/27/18
94096 | Stack-On Products (Company) | Wauconda, IL | 08/28/18 | 08/27/18
94097 | Apollo Medical PC (State/One-Stop) | Brooklyn, NY | 08/29/18 | 08/28/18
94098 | Catepillar Inc—Randstad Leasing (State/One-Stop) | Dyersburg, TN | 08/29/18 | 08/28/18
94099 | Jacobs CH2M (State/One-Stop) | Corvallis, OR | 08/29/18 | 08/28/18
94100 | Clockwork Acquisition II, Inc. (State/One-Stop) | Tempe, AZ | 08/29/18 | 08/28/18
94101 | FLSmidth Inc. (Workers) | Bethlehem, PA | 08/30/18 | 08/29/18
94102 | HP, Inc. (State/One-Stop) | Ft. Collins, CO | 08/30/18 | 08/28/18
94103 | Nokia of America Corporation (State/One-Stop) | Murray Hill, NJ | 08/30/18 | 08/29/18
94104 | Orchard Supply Hardware (1020 SE 10th Avenue location) (State/One-Stop) | Portland, OR | 08/30/18 | 08/29/18
94105 | GE Inspection Technologies, LP (State/One-Stop) | Lewistown, PA | 08/31/18 | 08/30/18
94106 | Nokia of America Corporation (State/One-Stop) | Dublin, OH | 08/31/18 | 08/30/18
94107 | Fujitsu Network (State/One-Stop) | Richardson, TX | 09/05/18 | 09/04/18
94108 | Intel (Infitech, Inc) (State/One-Stop) | Hillsboro, OR | 09/05/18 | 09/04/18
94109 | Ricoh USA (State/One-Stop) | Houston, TX | 09/05/18 | 07/25/18
94110 | Atos IT Solutions & Services (State/One-Stop) | Irving, TX | 09/06/18 | 09/05/18
94111 | DEX YP or DEX Media (State/One-Stop) | DFW Airport, TX | 09/06/18 | 09/04/18
94112 | Caterpillar Inc. (Company) | Joliet, IL | 09/07/18 | 09/06/18
94113 | CenseoHealth, LLC/Signify Health (State/One-Stop) | Herndon, VA | 09/07/18 | 09/04/18
94114 | Famma Group Inc. (State/One-Stop) | Los Angeles, CA | 09/07/18 | 09/06/18
94115 | ITT Cannon (State/One-Stop) | Irvine, CA | 09/07/18 | 09/06/18
94116 | Williamson-Dickie Manufacturing Company dba VF Workwear (State/One-Stop) | Uvalde, TX | 09/07/18 | 09/05/18
94117 | ArcelorMittal Plate LLC—Conshohocken Division (Union) | Conshohocken, PA | 09/11/18 | 09/10/18
94118 | Ciena Corporation (State/One-Stop) | Spokane Valley, WA | 09/11/18 | 09/10/18
94119 | Crystal Vision (Workers) | Irving, TX | 09/11/18 | 09/10/18
94120 | TE Connectivity (Company) | Middletown, PA | 09/11/18 | 09/06/18
94121 | Sykes Enterprises Inc. (State/One-Stop) | Milton Freewater, OR | 09/12/18 | 09/11/18
94122 | Teachers Insurance Annuity Association (State/One-Stop) | Denver, CO | 09/12/18 | 09/11/18
94123 | SimplexGrinnell (a subsidiary of Johnson Controls) (State/One-Stop) | Westminister, MA | 09/12/18 | 09/05/18
94124 | Byer California (State/One-Stop) | Los Angeles, CA | 09/13/18 | 09/11/18
94125 | Static Control Components Inc. (Workers) | Sanford, NC | 09/13/18 | 09/12/18
94126 | The Anthem Companies Inc. (State/One-Stop) | Norfolk, VA | 09/14/18 | 09/13/18
94127 | Deluxe Entertainment Services Group (State/One-Stop) | Northvale, NJ | 09/14/18 | 09/13/18
94128 | Estee Lauder Companies (Workers) | New York, NY | 09/14/18 | 09/10/18
94129 | MBC Ventures (Company) | Baltimore, MD | 09/14/18 | 09/14/18
94130 | Nortek Global HVAC (Company) | Mercer, PA | 09/14/18 | 09/13/18
94131 | Quad Graphics Hazleton (Workers) | Hazle Township, PA | 09/14/18 | 09/04/18
94132 | REC Solar Grade Silicon LLC (State/One-Stop) | Moses Lake, WA | 09/14/18 | 09/07/18
94133 | Schmidt's™ Deodorant Company, LLC. (State/One-Stop) | Portland, OR | 09/14/18 | 09/13/18

[FR Doc. 2018-24291 Filed 11-6-18; 8:45 am]

BILLING CODE 4510-FN-P